DEPARTMENT OF THE INTERIOR

Bureau of Land Management

[LLNMF00000 L13110000.XH0000]

Notice of Public Meeting, Farmington District Resource Advisory Council Meeting, New Mexico

AGENCY: Bureau of Land Management, Interior.

ACTION: Notice of Public Meeting.

SUMMARY: In accordance with the Federal Land Policy and Management Act and the Federal Advisory Committee Act of 1972, the U.S. Department of the Interior, Bureau of Land Management (BLM), Farmington District Resource Advisory Council (RAC), will meet as indicated below.

DATES: The meeting dates are June 13-14, 2012, at the Taos Field Office, 226 Cruz Alta Road, Taos, NM. A field trip is planned for June 13 at 8:30 a.m. The meeting is scheduled Thursday, June 14, from 9 a.m. to 4:30 p.m. The public comment period will begin at 3:30 p.m. The public may send written comments to the RAC at the above address. All RAC meetings are open to the public. Depending on the number of individuals wishing to comment and time available, the time for individual oral comments may be limited.

FOR FURTHER INFORMATION CONTACT: Bill Papich, coordinator for the BLM Farmington District RAC, at the BLM Farmington District Office, 6251 College Boulevard, Farmington, NM 87402, or phone Mr. Papich at 505-564-7620. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member RAC advises the Secretary of the Interior, through the BLM, on a variety of planning and management issues associated with public land management in New Mexico.

Planned agenda items include discussion of a proposed transportation plan for the Taos Field Office and a planned wild horse gathering by the Farmington Field Office. There also will be discussion of the Glade Run Recreation Area management plan amendment to the Farmington Field Office Resource Management Plan.

Felicia J. Probert,
Acting Associate State Director, New Mexico.

[FR Doc. 2012-12655 Filed 5-23-12; 8:45 am]

BILLING CODE 4310-VB-P